DEPARTMENT OF JUSTICE

Notice of Lodging of Consent Decree in Comprehensive Environmental Response, Compensation and Liability Act Cost Recovery Action

In accordance with the Departmental Policy, 28 CFR 50.7, notice is hereby given that a Consent Decree in United States v. Cytec Industries, Inc., Ford Motor Company, and SPS Technologies, Inc., Civil Action No. 00-CV-2248 was lodged with the United States District Court for the Eastern District of Pennsylvania on May 2, 2000. This Consent Decree resolves certain claims of the United States against Cytec Industries, Inc., Ford Motor Company, and SPS Technologies (“Settling Defendants”) under Sections 106 and 107(a) of the Comprehensive Environmental Response, Compensation and Liability Act (“CERCLA”), 42 U.S.C. 9606 and 9607(a), for performance of Operable Unit 1 response action and for Operable Unit 1 future response costs at the Boarhead Farms Superfund Site located in Bridgeton Township, Pennsylvania. The Consent Decree requires the Settling Defendants to perform all Operable Unit 1 activities (as defined in the Decree) and to pay all Future Response Costs relating to Operable Unit 1 activities at the Boarhead Farms Superfund Site.

The Department of Justice will accept written comments on the proposed Consent Decree for thirty (30) days from the date of publication of this notice. Please address comments to the Assistant Attorney General, Environment and Natural Resources Division, Department of Justice, P.O. Box 7611, Ben Franklin Station, Washington, DC 20044 and refer to United States v. Cytec Industries, Inc., Ford Motor Company, and SPS Technologies, Inc., DOJ #90-11-2-06036.

Copies of the proposed Consent Decree may be examined at the Office of the United States Attorney, Eastern District of Pennsylvania, 615 Chestnut Street, Philadelphia, PA 19106 and at EPA Region III, 1650 Arch Street, Philadelphia, PA 19103. A copy of the proposed Consent Decree may be obtained by mail from the U.S. Department of Justice, Consent Decree Library, P.O. Box 7611, Washington, DC 20044-7611. When requesting a copy of the proposed Consent Decree, please enclose a check to cover the twenty-five cents per page reproduction costs payable to the “Consent Decree Library” in the amount of $21.00 (for Decree without appendices) or $50.00 (for Decree with appendices), and please reference United States v. Cytec Industries, Inc., Ford Motor Company, and SPS Technologies, Inc., DOJ No. 90-11-2-06036.

Joel M. Gross,
Chief, Environmental Enforcement Section, Environment and Natural Resources Division, U.S. Department of Justice.

[FR Doc. 00-12482 Filed 5-17-00; 8:45 am]

BILLING CODE 4410-15-M